FEDERAL COMMUNICATIONS COMMISSION

Sunshine Act Meeting; Open Commission Meeting; Wednesday, October 17, 2012

October 10, 2012.

The Federal Communications Commission will hold an Open Meeting on the subjects listed below on Wednesday, October 17, 2012. The meeting is scheduled to commence at 10:30 a.m. in Room TW-C305, at 445 12th Street SW., Washington, DC.

Item Nos. | Bureau | Subject
1 | INTERNATIONAL | Title: Reporting Requirements for U.S. Providers of International Telecommunications Services (IB Docket No. 04-112); Amendment of Part 43 of the Commission's Rules. Summary: The Commission will consider a Second Report and Order to streamline reporting requirements for international phone traffic, significantly reducing overall filing burdens while ensuring collection of the data needed to protect consumers and competition in international markets.
2 | CONSUMER & GOVERNMENTAL AFFAIRS | Title: Implementation of the Middle Class Tax Relief and Job Creation Act of 2012 (CG Docket No. 12-129); Establishment of a Public Safety Answering Point Do-Not-Call Registry. Summary: The Commission will consider a Report and Order that protects Public Safety Answering Points (PSAPs) from autodialed calls, which can tie up emergency-service telephone lines, by adopting rules that create a do-not-call registry of PSAP telephone numbers, prohibit autodialed non-emergency calls to those numbers, and implement specific monetary penalties for autodialing or disclosing registered PSAP numbers. These rules are mandated by the Middle Class Tax Relief and Job Creation Act of 2012.
3 | OFFICE OF ENGINEERING & TECHNOLOGY, INTERNATIONAL & WIRELESS TELE-COMMUNICATIONS | Title: Amendment of Part 27 of the Commission's Rules to Govern the Operation of Wireless Communications Services in the 2.3 GHz Band (WT Docket No. 07-293); Establishment of Rules and Policies for the Digital Audio Radio Satellite Service in the 2310-2360 MHz Frequency Band (IB Docket No. 95-91). Summary: The Commission will consider an Order on Reconsideration that revises the WCS rules to facilitate use of 30 megahertz of spectrum for wireless broadband service while protecting SDARS against harmful interference.

The meeting site is fully accessible to people using wheelchairs or other mobility aids. Sign language interpreters, open captioning, and assistive listening devices will be provided on site. Other reasonable accommodations for people with disabilities are available upon request. In your request, include a description of the accommodation you will need and a way we can contact you if we need more information. Last minute requests will be accepted, but may be impossible to fill. Send an email to: fcc504@fcc.gov or call the Consumer & Governmental Affairs Bureau at 202-418-0530 (voice), 202-418-0432 (tty).

Additional information concerning this meeting may be obtained from Meribeth McCarrick, Office of Media Relations, (202) 418-0500; TTY 1-888-835-5322. Audio/Video coverage of the meeting will be broadcast live with open captioning over the Internet from the FCC Live Web page at www.fcc.gov/live.

For a fee this meeting can be viewed live over George Mason University's Capitol Connection. The Capitol Connection also will carry the meeting live via the Internet. To purchase these services call (703) 993-3100 or go to www.capitolconnection.gmu.edu.

Copies of materials adopted at this meeting can be purchased from the FCC's duplicating contractor, Best Copy and Printing, Inc., (202) 488-5300; Fax (202) 488-5563; TTY (202) 488-5562. These copies are available in paper format and alternative media, including large print/type; digital disk; and audio and video tape. Best Copy and Printing, Inc. may be reached by email at FCC@BCPIWEB.com.

Federal Communications Commission.
Gloria J. Miles,
Federal Register Liaison, Office of the Secretary, Office of Managing Director.

[FR Doc. 2012-26060 Filed 10-18-12; 4:15 pm]

BILLING CODE 6712-01-P